FEDERAL RETIREMENT THRIFT INVESTMENT BOARD

Privacy Act of 1974; Systems of Records

AGENCY: Federal Retirement Thrift Investment Board.

ACTION: Notice of revision to existing systems of records.

SUMMARY: The Federal Retirement Thrift Investment Board (Agency) is proposing to revise its Privacy Act Systems of Records to reflect the Agency's new office address.

DATES: The revision will become effective without further notice on March 28, 2012 unless comments received on or before that date result in a contrary determination.

FOR FURTHER INFORMATION CONTACT: Amanda Haas at 202-942-1600.

SUPPLEMENTARY INFORMATION: This notice is in accordance with the Privacy Act requirement that agencies publish their amended systems of records in the Federal Register when there is a revision, change, or addition. The Agency has moved its headquarters to a new location in Washington, DC. The revisions to the Agency's systems of records set forth below reflect the Agency's new address.

Gregory T. Long,
Executive Director, Federal Retirement Thrift Investment Board.

FRTIB-1

SYSTEM NAME:

Thrift Savings Plan Records.

FRTIB-2

SYSTEM NAME:

Personnel Security Files.

FRTIB-3

SYSTEM NAME:

EEO Discrimination Complaint File.

FRTIB-4

SYSTEM NAME:

Adverse Information and Action Records, Disciplinary. Records.

FRTIB-5

SYSTEM NAME:

Payroll Records.

FRTIB-6

SYSTEM NAME:

Leave Records.

FRTIB-7

SYSTEM NAME:

Consultant and Staff Associate File.

FRTIB-8

SYSTEM NAME:

Board Members File.

FRTIB-9

SYSTEM NAME:

Organization Management and Locator System.

FRTIB-10

SYSTEM NAME:

Identity Management System (IDMS).

FRTIB-11

SYSTEM NAME:

Financial Disclosure Reports and Outside Business Interest Records.

FRTIB-12

SYSTEM NAME:

Collection Records.

FRTIB-13

SYSTEM NAME:

Fraud and Forgery Records.

FRTIB-1

SYSTEM NAME:

Thrift Savings Plan Records.

SYSTEM MANAGER(S) AND ADDRESS:

[CHANGE TO READ]

Chief Financial Officer, Federal Retirement Thrift Investment Board, 77 K Street NE., Suite 1000, Washington, DC 20002.

* * * * *

FRTIB-2

SYSTEM NAME:

Personnel Security Files.

SYSTEM LOCATION:

[CHANGE TO READ]

Federal Retirement Thrift Investment Board, 77 K Street NE., Suite 1000, Washington, DC 20002.

SYSTEM MANAGERS AND ADDRESS:

[CHANGE TO READ]

The Chief Financial Officer maintains the Agency's electronic background information data and all other records in FRTIB-2. The Chief Financial Officer may be contacted in writing at 77 K Street NE., Suite 1000, Washington, DC 20002.

NOTIFICATION PROCEDURE:

[CHANGE TO READ]

Individuals seeking to determine whether this system of records contains information about themselves should send inquiries to the Chief Financial Officer at Federal Retirement Thrift Investment Board, 77 K Street NE., Suite 1000, Washington, DC 20002. When requesting notification or access to records covered by FRTIB-2, an individual should provide his/her full name, date of birth, Social Security number, and home address in order to establish identity.

* * * * *

FRTIB-3

SYSTEM NAME:

EEO Discrimination Complaint File.

SYSTEM LOCATION:

[CHANGE TO READ]

Federal Retirement Thrift Investment Board, 77 K Street NE., Suite 1000, Washington, DC 20002.

SYSTEM MANAGER(S) AND ADDRESS:

[CHANGE TO READ]

Personnel Officer, Federal Retirement Thrift Investment Board, 77 K Street NE., Suite 1000, Washington, DC 20002.

* * * * *

FRTIB-4

SYSTEM NAME:

Adverse Information and Action Records, Disciplinary Records.

SYSTEM LOCATION:

[CHANGE TO READ]

Federal Retirement Thrift Investment Board, 77 K Street NE., Suite 1000, Washington, DC 20002.

SYSTEM MANAGER(S) AND ADDRESS:

[CHANGE TO READ]

Personnel Officer, Federal Retirement Thrift Investment Board, 77 K Street NE., Suite 1000, Washington, DC 20002.

* * * * *

FRTIB-5

SYSTEM NAME:

Payroll Records.

SYSTEM MANAGER(S) AND ADDRESS:

[CHANGE TO READ]

Personnel Officer, Federal Retirement Thrift Investment Board, 77 K Street NE., Suite 1000, Washington, DC 20002.

* * * * *

FRTIB-6

SYSTEM NAME:

Leave Records.

SYSTEM LOCATION:

[CHANGE TO READ]

Federal Retirement Thrift Investment Board, 77 K Street NE., Suite 1000, Washington, DC 20002.

SYSTEM MANAGER(S) AND ADDRESS:

[CHANGE TO READ]

Personnel Officer, Federal Retirement Thrift Investment Board, 77 K Street NE., Suite 1000, Washington, DC 20002.

* * * * *

FRTIB-7

SYSTEM NAME:

Consultant and Staff Associate File.

SYSTEM LOCATION:

[CHANGE TO READ]

Federal Retirement Thrift Investment Board, 77 K Street NE., Suite 1000, Washington, DC 20002.

SYSTEM MANAGER(S) AND ADDRESS:

[CHANGE TO READ]

Personnel Officer, Federal Retirement Thrift Investment Board, 77 K Street NE., Suite 1000, Washington, DC 20002.

* * * * *

FRTIB-8

SYSTEM NAME:

Board Members File.

SYSTEM LOCATION:

[CHANGE TO READ]

Federal Retirement Thrift Investment Board, 77 K Street NE., Suite 1000, Washington, DC 20002.

SYSTEM MANAGER(S) AND ADDRESS:

[CHANGE TO READ]

Secretary to the Board, Federal Retirement Thrift Investment Board, 77 K Street NE., Suite 1000, Washington, DC 20002.

* * * * *

FRTIB-9

SYSTEM NAME:

Organization Management and Locator System.

SYSTEM LOCATION:

[CHANGE TO READ]

Federal Retirement Thrift Investment Board, 77 K Street NE., Suite 1000, Washington, DC 20002.

SYSTEM MANAGER(S) AND ADDRESS:

[CHANGE TO READ]

Office directors maintain records pertaining to that director's employees or contractor personnel. The Director, Automated Systems, maintains the Agency's electronic emergency notification roster. The Chief Financial Officer maintains all other records in FRTIB-9. Any of these individuals may be contacted in writing at 77 K Street NE., Suite 1000, Washington, DC 20002.

NOTIFICATION PROCEDURE:

[CHANGE TO READ]

Individuals seeking to determine whether this system of records contains information about themselves should address written inquiries to their Office Director; the Director, Automated Systems; or the Chief Financial Officer at Federal Retirement Thrift Investment Board, 77 K Street NE., Suite 1000, Washington, DC 20002. Individuals must supply their full name for their records to be located and identified.

* * * * *

FRTIB-10

SYSTEM NAME:

Identity Management System (IDMS).

SYSTEM LOCATION:

[CHANGE TO READ]

Federal Retirement Thrift Investment Board, 77 K Street NE., Suite 1000, Washington, DC 20002. Some data covered by this system may be at Federal buildings and Federally-leased space where staffed guard-stations have been established in facilities that have installed the Personal Identity Verification (PIV) system, as well as the physical security offices or computer security offices of those locations.

SYSTEM MANAGER(S) AND ADDRESS:

[CHANGE TO READ]

The Chief Financial Officer maintains the Agency's electronic identity data and all other records in FRTIB-10. The Chief Financial Officer may be contacted in writing at 77 K Street NE., Suite 1000, Washington, DC 20002.

NOTIFICATION PROCEDURE:

[CHANGE TO READ]

Individuals seeking to determine whether this system of records contains information about themselves should send inquiries to the Chief Financial Officer at Federal Retirement Thrift Investment Board, 77 K Street NE., Suite 1000, Washington, DC 20002. When requesting notification of or access to records covered by FRTIB-10, an individual should provide his/her full name, date of birth, social security number, and home address in order to establish identity.

* * * * *

FRTIB-11

SYSTEM NAME:

Financial Disclosure Reports and Outside Business Interest Records.

SYSTEM LOCATION:

[CHANGE TO READ]

Federal Retirement Thrift Investment Board, 77 K Street NE., Suite 1000, Washington, DC 20002.

SYSTEM MANAGER(S) AND ADDRESS:

[CHANGE TO READ]

Ethics Officer, Federal Retirement Thrift Investment Board, 77 K Street NE., Suite 1000, Washington, DC 20002.

* * * * *

FRTIB-12

SYSTEM NAME:

Collection Records.

SYSTEM LOCATION:

[CHANGE TO READ]

Federal Retirement Thrift Investment Board, 77 K Street NE., Suite 1000, Washington, DC 20002.

SYSTEM MANAGER(S) AND ADDRESS:

[CHANGE TO READ]

Associate General Counsel, Federal Retirement Thrift Investment Board, 77 K Street NE., Suite 1000, Washington, DC 20002.

NOTIFICATION PROCEDURE:

[CHANGE TO READ]

Inquiries under the Privacy Act of 1974 should be addressed to the Privacy Act Officer, Federal Retirement Thrift Investment Board, 77 K Street NE., Suite 1000, Washington, DC 20002. All individuals making inquiries should provide with their requests as much descriptive matter as is possible to identify the particular record desired. The System Manager will advise as to whether the Board or FMS will process the record request.

* * * * *

FRTIB-13

SYSTEM NAME:

Fraud and Forgery Records.

SYSTEM LOCATION:

[CHANGE TO READ]

These records are located at the Federal Retirement Thrift Investment Board, 77 K Street NE., Suite 1000, Washington, DC 20002 and at the office of the entity engaged by the Agency to perform record keeping services for the TSP. The current address for the Agency's record keeper is listed at http://www.tsp.gov.

SYSTEM MANAGER(S) AND ADDRESS:

[CHANGE TO READ]

Director, Office of Participant Services, Federal Retirement Thrift Investment Board, 77 K Street NE., Suite 1000, Washington, DC 20002.

NOTIFICATION PROCEDURE:

Inquiries under the Privacy Act of 1974 should be addressed to the Privacy Act Officer, Federal Retirement Thrift Investment Board, 77 K Street NE., Suite 1000, Washington, DC 20002. All individuals making inquiries should provide with their requests as much descriptive matter as is possible to identify the particular record desired.

[FR Doc. 2012-4489 Filed 2-24-12; 8:45 am]

BILLING CODE 6760-01-P